DEPARTMENT OF COMMERCE

Bureau of Economic Analysis

Submission for OMB Review; Comment Request; Correction

AGENCY: Bureau of Economic Analysis (BEA), Department of Commerce.

This notice corrects the notice published on February 1, 2008, Volume 73, Number 22, page 6114. The following items are corrected and replaced—

Title: Biomedical Research and Development Price Index (BRDPI) Survey.

OMB Control Number: 0608-0069.

All other information stated in the February 1, 2008 notice remains effective.

Dated: February 5, 2008.
Gwellnar Banks,
Management Analyst, Office of the Chief Information Officer.

[FR Doc. E8-2373 Filed 2-7-08; 8:45 am]

BILLING CODE 3510-06-P